DEPARTMENT OF HOUSING AND URBAN DEVELOPMENT

[Docket No. FR-4723-FA-05]

Announcement of Funding Awards for Fiscal Year 2002 Alaska Native/Native Hawaiian Institutions Assisting Communities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2002 Alaska Native/Native Hawaiian Institutions Assisting Communities Program. The purpose of this document is to announce the names, addresses and the amount awarded to the winners to be used to assist Alaska Native/Native Hawaiian institutions of higher education to expand their role and effectiveness in addressing communities in their localities, consistent with the purpose of title I of the Housing and Community Development Act of 1974, as amended.

FOR FURTHER INFORMATION CONTACT: Susan Brunson, Office of University Partnerships, U.S. Department of Housing and Urban Development, Room 8106, 451 Seventh Street, SW., Washington, DC 20410, telephone (202) 708-3061, ext. 3852. To provide service for persons who are hearing-or-speech-impaired, this number may be reached via TTY by Dialing the Federal Information Relay Service on 800-877-8339 or 202-708-1455. (Telephone number, other than “800” TTY numbers are not toll free.)

SUPPLEMENTARY INFORMATION: The Alaska Native/Native Hawaiian Institutions Assisting Communities Program was approved by Congress under section 107 of the Community Development Block Grant appropriations for the Fiscal Year 2002, and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The AN/NHIAC program provides funds for a wide range of CDBG-eligible activities including housing rehabilitation and financing, property demolition or acquisition, public facilities, economic development, business entrepreneurship, and fair housing programs. Of the $6.2 million available, $3.1 million was allotted to fund Alaskan Hawaiian institutions and $3.1 million to fund Native Hawaiian institutions. Each eligible campus was permitted to apply individually, for $600,000 the maximum amount that can be awarded for a period of 36 months.

The Catalog Federal Domestic Assistance number for this program is 14.515.

On March 26, 2002 (67 FR 13981), HUD published a notice of funding availability (NOFA) announcing the availability of $6.2 million in Fiscal Year 2002 funds for the AN/NHIAC Program. The Department reviewed, evaluated, and scored the applications received based on the criteria in the NOFA. As a result, HUD has funded the applications below, in accordance with section 102(a)(4)(C) of the Department of Housing and Urban Development Reform Act of 1989 (103 Stat. 1987, 42 U.S.C. 3545), the Department is publishing details concerning the recipients of funding awards, as set forth below.

List of Awardees for Grant Assistance Under the FY 2002 Alaska Native/Native Hawaiian Institutions Assisting Communities Program Funding Competition, by Institution, Address and Grant Amount

Pacific/Hawaii

1. University of Hawaii, Mr. Randall Francisco, Leeward Community College, 96-045 Ala Ike, Peal City, HI 96782. Grant: $579,586.

2. University of Hawaii, Dr. June Aono, West Oahu, 96-129 Ala Ike, Peal City, HI 96782. Grant: $599,875.

3. University of Hawaii, Ms. Sandra Okazaki, Windward Community College, 45-720 Kea'ahala Road, Kaneohe, HI 96744. Grant: $590,036.

Northwest/Alaska

4. University of Alaska Fairbanks, Lincoln Saito, Chukchi Campus, University of Alaska Fairbanks, PO Box 757880, Fairbanks, AK 99775-880. Grant: $395,000.

Dated: October 23, 2002.
Harold L. Bunce,
Deputy Assistant Secretary for Economic Affairs.

[FR Doc. 02-28124 Filed 11-5-02; 8:45 am]

BILLING CODE 4210-62-P